DEPARTMENT OF ENERGY

Federal Energy Regulatory Commission

Combined Notice of Filings #1

Take notice that the Commission received the following Complaints and Compliance filings in EL Dockets:

Docket Numbers: EL23-87-000.

Applicants: Spruce Power Holding Corporation.

Description: Petition for Declaratory Order of Spruce Power Holding Corporation.

Filed Date: 7/28/23.

Accession Number: 20230728-5227.

Comment Date: 5 p.m. ET 8/28/23.

Take notice that the Commission received the following electric rate filings:

Docket Numbers: ER21-1452-003.

Applicants: Delta's Edge Solar, LLC.

Description: Compliance filing: Compliance to 3 to be effective 12/31/9998.

Filed Date: 7/28/23.

Accession Number: 20230728-5162.

Comment Date: 5 p.m. ET 8/18/23.

Docket Numbers: ER21-1453-003.

Applicants: Crossett Solar Energy, LLC.

Description: Compliance filing: Compliance to 3 to be effective 12/31/9998.

Filed Date: 7/28/23.

Accession Number: 20230728-5166.

Comment Date: 5 p.m. ET 8/18/23.

Docket Numbers: ER22-1482-001.

Applicants: Blythe Mesa Solar II, LLC.

Description: Compliance filing: Notice of Revised Market-Based Rate Tariff to be effective 7/31/2023.

Filed Date: 7/28/23.

Accession Number: 20230728-5167.

Comment Date: 5 p.m. ET 8/18/23.

Docket Numbers: ER23-1569-001.

Applicants: Yellowbud Solar, LLC.

Description: Tariff Amendment: Response to Deficiency Notice to be effective 5/8/2023.

Filed Date: 7/28/23.

Accession Number: 20230728-5196.

Comment Date: 5 p.m. ET 8/18/23.

Docket Numbers: ER23-2510-000.

Applicants: California Independent System Operator Corporation.

Description: § 205(d) Rate Filing: 2023-07-28 Short-Term Wheeling Through Self-Schedule Priorities Tariff Amendment to be effective 11/1/2023.

Filed Date: 7/28/23.

Accession Number: 20230728-5177.

Comment Date: 5 p.m. ET 8/18/23.

Docket Numbers: ER23-2511-000.

Applicants: Hardy Hills Solar Energy LLC.

Description: Baseline eTariff Filing: Application for Market Based Rate Authority to be effective 9/27/2023.

Filed Date: 7/28/23.

Accession Number: 20230728-5195.

Comment Date: 5 p.m. ET 8/18/23.

Docket Numbers: ER23-2512-000.

Applicants: SR Canadaville, LLC.

Description: Baseline eTariff Filing: Market-Based Rate Application to be effective 9/27/2023.

Filed Date: 7/28/23.

Accession Number: 20230728-5198.

Comment Date: 5 p.m. ET 8/18/23.

Docket Numbers: ER23-2513-000.

Applicants: SR Canadaville Lessee, LLC.

Description: Baseline eTariff Filing: Market-Based Rate Application to be effective 9/27/2023.

Filed Date: 7/28/23.

Accession Number: 20230728-5208.

Comment Date: 5 p.m. ET 8/18/23.

Docket Numbers: ER23-2514-000.

Applicants: New England Power Pool Participants Committee.

Description: § 205(d) Rate Filing: Aug 2023 Membership Filing to be effective 8/1/2023.

Filed Date: 7/31/23.

Accession Number: 20230731-5008.

Comment Date: 5 p.m. ET 8/21/23.

Docket Numbers: ER23-2515-000.

Applicants: PJM Interconnection, L.L.C.

Description: § 205(d) Rate Filing: Amendment to ISA, Service Agreement No. 6167; Queue No. AE1-101 to be effective 9/29/2023.

Filed Date: 7/31/23.

Accession Number: 20230731-5047.

Comment Date: 5 p.m. ET 8/21/23.

Docket Numbers: ER23-2516-000.

Applicants: PJM Interconnection, L.L.C.

Description: § 205(d) Rate Filing: Amendment to ISA, Service Agreement No. 5889; Queue Nos. AC2-186,AC2-187 et al to be effective 9/29/2023.

Filed Date: 7/31/23.

Accession Number: 20230731-5058.

Comment Date: 5 p.m. ET 8/21/23.

Docket Numbers: ER23-2517-000.

Applicants: Midcontinent Independent System Operator, Inc., Ameren Illinois Company.

Description: § 205(d) Rate Filing: Midcontinent Independent System Operator, Inc. submits tariff filing per 35.13(a)(2)(iii): 2023-07-31_SA 3028 Ameren IL-Prairie Power Project #39 Macomb to be effective 9/30/2023.

Filed Date: 7/31/23.

Accession Number: 20230731-5064.

Comment Date: 5 p.m. ET 8/21/23.

Docket Numbers: ER23-2518-000.

Applicants: Pacific Gas and Electric Company.

Description: § 205(d) Rate Filing: Q2 2023 Quarterly Filing of City and County of San Francisco's WDT SA (SA 275) to be effective 6/30/2023.

Filed Date: 7/31/23.

Accession Number: 20230731-5078.

Comment Date: 5 p.m. ET 8/21/23.

Docket Numbers: ER23-2519-000.

Applicants: Sunrise Power Company, LLC.

Description: Compliance filing: Notice of Non-Material Change in Status to be effective 9/30/2023.

Filed Date: 7/31/23.

Accession Number: 20230731-5088.

Comment Date: 5 p.m. ET 8/21/23.

Docket Numbers: ER23-2520-000.

Applicants: SR Litchfield, LLC.

Description: Baseline eTariff Filing: Market-Based Rate Application to be effective 9/27/2023.

Filed Date: 7/31/23.

Accession Number: 20230731-5097.

Comment Date: 5 p.m. ET 8/21/23.

Docket Numbers: ER23-2521-000.

Applicants: Alabama Power Company, Georgia Power Company, Mississippi Power Company.

Description: § 205(d) Rate Filing: Alabama Power Company submits tariff filing per 35.13(a)(2)(iii): SWE (PowerSouth Territorial) NITSA 2023 Rollover Filing to be effective 7/1/2023.

Filed Date: 7/31/23.

Accession Number: 20230731-5102.

Comment Date: 5 p.m. ET 8/21/23.

Docket Numbers: ER23-2522-000.

Applicants: SR Georgetown, LLC.

Description: Baseline eTariff Filing: Market-Based Rate Application to be effective 9/27/2023.

Filed Date: 7/31/23.

Accession Number: 20230731-5104.

Comment Date: 5 p.m. ET 8/21/23.

Docket Numbers: ER23-2523-000.

Applicants: SR Lambert I, LLC.

Description: Baseline eTariff Filing: Market-Based Rate Application to be effective 9/27/2023.

Filed Date: 7/31/23.

Accession Number: 20230731-5106.

Comment Date: 5 p.m. ET 8/21/23.

Docket Numbers: ER23-2524-000.

Applicants: SR Lambert II, LLC.

Description: Baseline eTariff Filing: Market-Based Rate Application to be effective 9/27/2023.

Filed Date: 7/31/23.

Accession Number: 20230731-5108.

Comment Date: 5 p.m. ET 8/21/23.

Docket Numbers: ER23-2525-000.

Applicants: Midcontinent Independent System Operator, Inc.

Description: § 205(d) Rate Filing: 2023-07-31_SA 6521 MISO-Union Electric Second SSR Agreement for Rush Island to be effective 9/1/2023.

Filed Date: 7/31/23.

Accession Number: 20230731-5113.

Comment Date: 5 p.m. ET 8/21/23.

Docket Numbers: ER23-2526-000.

Applicants: GreenStruxure LOR008, LLC.

Description: Baseline eTariff Filing: Market-Based Rate Application to be effective 9/30/2023.

Filed Date: 7/31/23.

Accession Number: 20230731-5125.

Comment Date: 5 p.m. ET 8/21/23.

Docket Numbers: ER23-2527-000.

Applicants: PJM Interconnection, L.L.C.

Description: § 205(d) Rate Filing: Amendment to ISA, SA No. 6887; Queue No. AE2-219 (amend) to be effective 9/30/2023.

Filed Date: 7/31/23.

Accession Number: 20230731-5133.

Comment Date: 5 p.m. ET 8/21/23.

Docket Numbers: ER23-2528-000.

Applicants: NG Renewables Energy Marketing, LLC.

Description: § 205(d) Rate Filing: 2023-07-31 Notice of Change In Status, Tariff Amendment, and Waiver Requests to be effective 8/1/2023.

Filed Date: 7/31/23.

Accession Number: 20230731-5136.

Comment Date: 5 p.m. ET 8/21/23.

Docket Numbers: ER23-2529-000.

Applicants: Dunns Bridge Solar Center, LLC.

Description: Compliance filing: Notice of Non-Material Change in Status and MBR Tariff Revisions to be effective 9/30/2023.

Filed Date: 7/31/23.

Accession Number: 20230731-5137.

Comment Date: 5 p.m. ET 8/21/23.

Docket Numbers: ER23-2530-000.

Applicants: Tri-State Generation and Transmission Association, Inc.

Description: § 205(d) Rate Filing: Amendment to Rate Schedule FERC No. 67 to be effective 9/29/2023.

Filed Date: 7/31/23.

Accession Number: 20230731-5146.

Comment Date: 5 p.m. ET 8/21/23.

Docket Numbers: ER23-2531-000.

Applicants: PJM Interconnection, L.L.C.

Description: § 205(d) Rate Filing: Original ISA, Service Agreement No. 7010; Queue No. AF1-094 to be effective 6/29/2023.

Filed Date: 7/31/23.

Accession Number: 20230731-5153.

Comment Date: 5 p.m. ET 8/21/23.

Docket Numbers: ER23-2532-000.

Applicants: Southwest Power Pool, Inc.

Description: § 205(d) Rate Filing: Lea County Electric Cooperative, Inc. Formula Rate Filing to be effective 10/1/2023.

Filed Date: 7/31/23.

Accession Number: 20230731-5167.

Comment Date: 5 p.m. ET 8/21/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: July 31, 2023.
Debbie-Anne A. Reese,
Deputy Secretary.

[FR Doc. 2023-16701 Filed 8-3-23; 8:45 am]

BILLING CODE 6717-01-P